DEPARTMENT OF ENERGY

Federal Energy Regulatory Commission

[Docket No. IC22-20-000]

Commission Information Collection Activity (FERC-740); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-740 (Availability of E-Tag Information to Commission Staff).

DATES: Comments on the collections of information are due September 12, 2022.

ADDRESSES: You may submit your comments (identified by Docket No. IC22-20-000) on FERC-740 by one of the following methods: Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, or by telephone at (202) 502-8663.

SUPPLEMENTARY INFORMATION:

Title: FERC-740, Availability of E-Tag Information to Commission Staff.

OMB Control No.: 1902-0254.

Type of Request: Three-year extension of the FERC-740 information collection requirements with no changes to the current reporting requirements.

Abstract: This collection of information is authorized by 18 CFR 366.2(d), which requires Commission access, on a non-public and view-only basis, to information that is located on “electronic tags,” also known as “e-Tags.” Each e-Tag consists of an electronic record of a transaction to transfer energy from a generation source to a Balancing Authority (BA). Each BA operates a portion of the grid, balancing supply and demand and assuring compliance with federal reliability standards. E-Tag “authors” are typically Purchasing-Selling Entities (PSEs). A PSE purchases or sells energy, capacity, and Interconnected Operations Services.

Transmission system operators, which are among the addressees of e-Tags, use e-Tags to ascertain the transactions affecting their local systems, and to prevent damage to the power grid. Commission access to e-Tags helps the Commission detect and prevent market manipulation and anti-competitive behavior, and monitor the efficiency of markets. Both transmission system operators and the Commission need the e-Tag information to understand the use of the interconnected electricity grid, particularly transactions occurring at interchanges. Due to the nature of the electric grid, an individual transaction's impact on an interchange cannot be assessed adequately in all cases without information from all connected systems, which is included in the e-Tags.

The inclusion of the Commission is completely automatic and is part of the normal business requirement. Thus, the time, effort, and financial resources necessary to comply with this collection of information are “usual and customary” within the meaning of the OMB regulation at 5 CFR 1320.3 (b)(2) (excluding such activities from the definition of “burden”). In view of these circumstances, FERC is including only a “placeholder” burden of one hour to account for the rare event where a new BA qualifies for exemption under the Commission's regulations (e.g., transmissions from a new non-U.S. BA into another non-U.S. BA using a path that does not go through a U.S. BA). In that case, this administrative function would be expected to require at most an hour of effort total from both the BA and e-Tag administrator to include the BA on the exemption list. New exempt BAs are not common—years may pass between them—but for the purpose of estimation, we will conservatively assume one appears each year creating a burden and cost associated with the Commission's FERC-740 of one hour and $36.90.

Type of Respondents: Purchasing-Selling Entities and Balancing Authorities.

Estimate of Annual Burden: ¹ The Commission estimates the burden and cost for FERC-740 as follows based on the distinct e-Tags submitted to the Commission in 2021 (the most recent full year available).

¹ “Burden” is the total time, effort, or financial resources expended by persons to generate, maintain, retain, or disclose or provide information to or for a Federal agency. For further explanation of what is included in the information collection burden, refer to 5 CFR part 1320.

A Number of respondents | B Annual number of responses (E-tags) per respondent | C Total number of responses | D Average burden & cost per response ² | E Total annual burden hours & total annual cost | F Cost per respondent ($)
|  | (Column A × Column B) |  | (Column C × Column D) | (Column E ÷ Column A)
435 PSE/BAs | 3,403 E-Tags | 1,480,305 E-Tags | Automatic, so 0 burden and cost | Automatic, so 0 burden and cost | Automatic, so 0 burden and cost.
1 E-Tag administrator | 1 response to add new non-jurisdictional Balancing Authority | 1 response to add new non-jurisdictional Balancing Authority | 1 hr.; $36.90 | 1 hr.; $36.90 | $36.90.
Totals | 3,404 | 1,480,306 | 1 hr.; $36.90 | 1 hr.; $36.90 | $36.90.

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimated hourly cost (wages plus benefits) provided in this section is based on the figures for June 2022 posted by the Bureau of Labor Statistics for the Utilities sector (available at https://www.bls.gov/oes/current/naics2_22.htm), assuming:

—15 minutes legal (code 23-0000), at $73.09/hour median hourly wage.

—45 minutes information and record clerk (code 43-4199), at $24.84/hour median hourly wage.

—$36.90 = (15 minutes / 60 minutes) * $73.09/hour median hourly wage for legal + (45 minutes / 60 minutes) * $24.84/hour median hourly wage for information and record clerk.

Dated: July 8, 2022.
Kimberly D. Bose,
Secretary.

[FR Doc. 2022-15053 Filed 7-13-22; 8:45 am]

BILLING CODE 6717-01-P